DEPARTMENT OF COMMERCE

Economic Development Administration

Proposed Information Collection; Comment Request; Trade Adjustment Assistance for Firms

AGENCY: Economic Development Administration (EDA).

ACTION: Notice.

SUMMARY: The Department of Commerce, as part of its continuing effort to reduce paperwork and respondent burden, invites the general public and other federal agencies to take this opportunity to comment on the proposed and/or continuing information collections, as required by the Paperwork Reduction Act of 1995.

DATES: Written comments must be submitted on or before April 8, 2013.

ADDRESSES: Direct all written comments and recommendations for the proposed information collection to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument and instructions should be directed to Miriam Kearse, Eligibility Examiner, Trade Adjustment Assistance Division, Room 71028, Economic Development Administration, Washington, DC 20230, telephone (202) 482-3963, facsimile (202) 482-2883 (or via the Internet at miriam.j.kearse@eda.gov).

SUPPLEMENTARY INFORMATION:

I. Abstract

EDA administers the Trade Adjustment Assistance for Firms (TAAF) Program, which is authorized under chapters 3 and 5 of title II of the Trade Act of 1974, as amended (19 U.S.C. 2341 et seq.) (Trade Act), and the Trade Adjustment Assistance Extension Act of 2011 (Pub. L. 112-40) which reauthorized the program, through a national network of 11 non-profit and university-affiliated Trade Adjustment Assistance Centers (TAACs), each of which serves a different geographic service region. EDA certifies firms as eligible to participate in the TAAF Program and provides funding to allow eligible client-firms to receive adjustment assistance through the TAACs. The information collected on Form ED-840P and relevant supporting documentation is used to determine if a firm is eligible to participate in the program. In accordance with the Trade Act and EDA's regulations as set out at 13 CFR part 315, EDA must verify that the following have occurred: (1) A significant reduction in the number or proportion of the workers in the firm, a reduction in the workers' wage or work hours, or an imminent threat of such reductions; (2) sales or production of the firm have decreased absolutely, as defined in EDA's regulations, or sales or production, or both, of any article or service accounting for at least 25 percent of the firm's sales or production has decreased absolutely; and (3) an increase in imports of articles or services like or directly competitive with those produced or provided by the petitioning firm, which has contributed importantly to the decline in employment and sales or production of that firm. Additionally, the firm must demonstrate that its customers have reduced purchases from the firm in favor of buying items or services from foreign suppliers. The use of the form standardizes and limits the information collected as part of the certification process and eases the burden on applicants and reviewers alike.

In addition, after being determined eligible for TAAF Program assistance using Form ED-840P, firms must create an EDA-approved adjustment proposal, which is each firm's business plan to remain viable in the current global economy, in order to receive financial assistance under the TAAF Program. Each adjustment proposal must meet certain requirements as set out in the Trade Act and EDA's regulation at 13 CFR 315.6. This notice also includes an estimate for adjustment proposals.

II. Method of Collection

Form ED-840P may be obtained in Portable Document Format (PDF) from EDA or the TAACs upon request. TAACs are responsible for preparing the application on the firm's behalf. Although there is no form associated with adjustment proposals, they must meet the requirements for adjustment proposals set out in EDA's regulation at 13 CFR 315.16. Both petitions for certification on Form ED-840P and adjustment proposals may be submitted via email to taac@eda.gov or in hard copy to EDA at Trade Adjustment Assistance for Firms, 1401 Constitution Avenue NW., Room 71028, Washington DC 20230.

III. Data

OMB Control Number: 0610-0091.

Form Number(s): ED-840P.

Type of Review: Regular submission (extension of a currently approved collection).

Affected Public: Businesses or other for-profit organizations.

Estimated Number of Respondents: 800 (500 petitions for certification and 300 adjustment proposals).

Estimated Time Per Response: 128.2 hours (8.2 for petitions for certification and 120 for adjustment proposals).

Estimated Total Annual Burden Hours: 40,100 (4,100 for petitions for certification and 36,000 for adjustment proposals).

Estimated Total Annual Cost to Public: $0.

IV. Request for Comments

Comments are invited on: (1) Whether the proposed collection of information is necessary for the proper performance of the functions of the agency, including whether the information shall have practical utility; (2) the accuracy of the agency's estimate of the burden (including hours and cost) of the proposed collection of information; (3) ways to enhance the quality, utility, and clarity of the information to be collected; and (4) ways to minimize the burden of the collection of information on respondents, including through the use of automated collection techniques or other forms of information technology.

Comments submitted in response to this notice will be summarized and/or included in the request for OMB approval of this information collection; they also will become a matter of public record.

Dated: January 31, 2013.
Glenna Mickelson,
Management Analyst, Office of the Chief Information Officer.

[FR Doc. 2013-02526 Filed 2-5-13; 8:45 am]

BILLING CODE 3510-WH-P